ENVIRONMENTAL PROTECTION AGENCY

40 CFR Part 80

[EPA-HQ-OAR-2005-0161; FRL-8723-3]

RIN 2060-AO80

Regulation of Fuels and Fuel Additives: Modifications to Renewable Fuel Standard Program Requirements

Correction

In rule document E8-23131 beginning on page 57248 in the issue of Thursday, October 2, 2008, make the following correction:

§ 80.1127 [Corrected]

On page 57255, in the second column, in § 80.1127(b)(2), the formula should appear as follows:

Di = RVOi - [(ΣRINNUM)i + (ΣRINNUM)i-1]

[FR Doc. Z8-23131 Filed 11-24-08; 8:45 am]

BILLING CODE 1505-01-D